ENVIRONMENTAL PROTECTION AGENCY

[ER-FRL-6689-1]

Environmental Impacts Statements; Notice of Availability

Responsible Agency: Office of Federal Activities, General Information (202) 564-7167 or http://www.epa.gov/compliance/nepa/.

Weekly receipt of Environmental Impact Statements

Filed 07/09/2007 Through 07/13/2007

Pursuant to 40 CFR 1506.9.

EIS No. 20070295, Draft EIS, AFS, CO, Hunter Reservoir Enlargement Project, Reconstruction and Enlargement, Ute Water Conservancy District, U.S. Army COE Section 404 Permit, Grand Mesa National Forest, Mesa County, CO, Comment Period Ends: 09/04/2007, Contact: Carrie Suber 970-242-8211.

EIS No. 20070296, Draft EIS, AFS, CA, Eldorado National Forest Public Wheeled Motorized Travel Management Project, Proposes to Regulate Unmanaged Public Wheeled Motor Vehicle, Implementation, Alphine, Amador, El Dorado and Placer Counties, CA, Comment Period Ends: 09/04/2007, Contact: Laura Hierholzer 530-642-5187.

EIS No. 20070297, Draft EIS, AFS, UT, Big Creek Vegetation Treatment Project, To Treat 4,800 Acres of Aspen Conifer and Sagebrush Communities, Ogden Ranger District, Wasatch-Cache National Forest, Rich County, UT, Comment Period Ends: 09/04/2007, Contact: Chip Sibbernsen 801-625-5112.

EIS No. 20070298, Draft EIS, AFS, UT, Millville Peak/Logan Peak Road Relocation Project, Provide a Safe, Reliable, Ground Access Route, Logan Ranger District, Wasatch-Cache National Forest, Cache County, UT, Comment Period Ends: 09/04/2007, Contact: Evelyn Sibbernsen 435-755-3620.

EIS No. 20070299, Draft EIS, AFS, WY, Battle Park Cattle and Horse (C&H) and Mistymoon Sheep and Goat (S&G) Allotment Project, Proposes to Continue Livestock Grazing on both Allotments, Powder River District Ranger, Bighorn National Forest, Bighorn County, WY, Comment Period Ends: 09/04/2007, Contact: Mark Booth 303-684-7806.

EIS No. 20070300, Legislative Draft EIS, USA, MT, Limestone Hills Training Area (LHTA) Withdrawal Project, To Withdraw Federal Lands from within the LHTA from DOI, Bureau of Land Management for Transfer to Montana Army National Guard for Military Training Use, Broadwater County, MT, Comment Period Ends: 10/19/2007 Contact: Patrick Magnotta 703-607-7982.

EIS No. 20070301, Legislative Draft EIS, COE, LA, Mississippi River—Gulf Outlet (MRGO) Deep-Draft Navigation De-Authorization Study, Implementation, St. Bernard Parish, LA, Comment Period Ends: 09/04/2007, Contact: Sean Mickal 504-862-2319.

EIS No. 20070302, Final EIS, USA, NM, Cannon Air Force Base (AFB), Proposal to Beddown, or Locate Air Force Special Operations Command (AFSOC), Implementation, Base Realignment and Closure (BRAC), NM, Wait Period Ends: 08/20/2007, Contact: Carl T. Hoffman 850-884-5984.

EIS No. 20070303, Draft EIS, FRA, CA, Bay Area to Central Valley High-Speed Train (HST) Project, Provide a Reliable High-Speed Electrified Train System to Link Bay Area Cities to the Central Valley, Sacramento, and South California, Comment Period Ends: 09/28/2007, Contact: David Valenstein 202-493-6368.

EIS No. 20070304, Draft EIS, USN, VA, Marine Corps Base Quantico (MCBQ) Virginia Project, Proposes Development of the Westside of MCBQ and the 2005 Base Realignment and Closure Action at MCBQ, Implementation, Quantico, VA, Comment Period Ends: 09/04/2007, Contact: Jeff Gardner 703-432-6784.

EIS No. 20070305, Draft EIS, BPA, MT, Libby (FEC) to Troy Section of BPA's Libby to Bonner Ferry 115-kilovolt Transmission Line Project, Rebuilding Transmission Line between Libby and Troy, Lincoln County, MT, Comment Period Ends: 09/04/2007, Contact: Tish Easton 503-230-3469.

EIS No. 20070306, Draft EIS, NPS, CO, Curecanti National Recreation Area Resource Protection Study, Implementation, Black Canyon of the Gunnison National Forest, Gunnison and Montrose Counties, CO, Comment Period Ends: 10/19/2007, Contact: Roxanne Runkle 303-969-2377.

EIS No. 20070307, Draft EIS, USA, 00, Permanent Home Stationing of the 2/25th Stryker Brigade Combat Team (SBECT), To Address a Full Range of Alternatives for Permanently Stationing the 2/25th SBCT, Hawaii and Honolulu Counties, HI; Anchorage and Southeast Fairbanks Boroughs, AK; El Paso, Pueblo, and Fremont Counties, CO, Comment Period Ends: 09/04/2007, Contact: Michael Ackerman 410-436-2522.

Amended Notices

EIS No. 20070291, Draft EIS, APH, 00, PROGRAMMATIC—Introduction of Genetically Engineered (GE) Organisms, To Address Current and Future Technological Trends Resulting GE Plants, Implementation, Comment Period Ends: 09/11/2007, Contact: Michael J. Wach 301-734-0485.

Revision of FR Notice Published 07/13/2007: Correction to Comment Period from 08/27/2007 to 09/11/2007.

Dated: July 17, 2007.
Robert W. Hargrove,
Director, NEPA Compliance Division, Office of Federal Activities.

[FR Doc. E7-14106 Filed 7-19-07; 8:45 am]

BILLING CODE 6560-50-P